DEPARTMENT OF LABOR

Employment and Training Administration

[TA-W-39,162 & NAFTA-04822]

ME International, Inc., Duluth, MN; Notice of Revised Determination on Remand

The United States Court of International Trade (USCIT) granted the Secretary of Labor's motion for a voluntary remand for further investigation in United Steelworkers of America on Behalf of Former Workers of ME International, Inc. v. Elaine L. Chao, U.S. Secretary of Labor (Court No. 02-00404).

The Department's initial denial of certification for the petitions (TA-W-39,162 & NAFTA-04822) filed for employees of ME International, Inc., Duluth, Minnesota were issued on October 2, 2001 and published in the Federal Register on October 19, 2001 (66 FR 53251 and 53252, respectively). The denial of Trade Adjustment Assistance (TAA) was based on a finding that criterion (3) of the Group Eligibility Requirements of Section 222 of the Trade Act of 1974, as amended, was not met. Imports did not contribute importantly to worker separations at the subject firm. The denial of NAFTA-Transitional Adjustment Assistance (NAFTA-TAA) was based on the finding that criteria (3) and (4) were not met. Imports from Canada or Mexico did not contribute importantly to workers' separations, nor was there a shift in plant production to Canada or Mexico.

On administrative reconsideration, the Department issued a “Notice of Negative Determination Regarding Application for Reconsideration,” for cases TA-W-39,162 and NAFTA-04822 on March 25, 2002 for the employees of ME International, Inc., Duluth, Minnesota. The notice was published in the Federal Register on April 17, 2002 (67 FR 18926). The Department affirmed its conclusions that imports did not contribute importantly to worker separations at the subject firm.

On remand, the Department contacted the company for additional customers that were not supplied by the company during the previous investigations. The company this time responded by supplying an extensive list of customers.

The U.S. Department of Labor conducted a survey of the customers regarding their purchases of mine wear parts during the relevant period. The survey revealed that customers increased their imports of mine wear parts from Canada and/or Mexico and also increased purchases of total U.S. imports, while decreasing their purchases from the subject firm during the relevant period.

Conclusion

After careful review of the additional facts obtained on remand, I determine that increases in imports of articles (including from Canada and/or Mexico) like or directly competitive with those produced by the subject firm contributed importantly to the worker separations and sales or production declines at the subject facility. In accordance with the provisions of the Trade Act, I make the following certification:

“All workers of ME International, Inc., Duluth, Minnesota, who became totally or partially separated from employment on or after April 9, 2000, through two years from the issuance of this revised determination, are eligible to apply for worker adjustment assistance under Section 223 of the Trade Act of 1974.” and

“All workers of ME International, Inc., Duluth, Minnesota, who became totally or partially separated from employment on or after April 30, 2000, through two years from the issuance of this revised determination, are eligible to apply for NAFTA-TAA under Section 250 of the Trade Act of 1974.”

Signed at Washington, DC this 25th day of June 2003.
Elliott S. Kushner,
Certifying Officer, Division of Trade Adjustment Assistance.

[FR Doc. 03-17444 Filed 7-9-03; 8:45 am]

BILLING CODE 4510-30-P